DEPARTMENT OF COMMERCE

International Trade Administration

University of Utah, et al.; Notice of Consolidated Decision on Applications for Duty-Free Entry of Electron Microscopes

This is a decision consolidated pursuant to section 6(c) of the Educational, Scientific, and Cultural Materials Importation Act of 1966 (Pub. L. 89-651, 80 Stat. 897; 15 CFR part 301). Related records can be viewed between 8:30 a.m. and 5 p.m. in Room 2104, U.S. Department of Commerce, 14th and Constitution Avenue., NW., Washington, DC.

Docket Number: 07-068.

Applicant: University of Utah, Salt Lake City, UT 84112.

Instrument: Electron Microscope, Model Nova NanoSEM 430.

Manufacturer: FEI Company, Czech Republic.

Intended Use: See notice at 72 FR 71360, December 17, 2007.

Docket Number: 07-069.

Applicant: The Children's Hospital, Denver CO 80218.

Instrument: Electron Microscope, Model H-7650.

Manufacturer: Hitachi High-Technologies Corporation, Japan.

Intended Use: See notice at 72 FR 71360, December 17, 2007.

Comments: None received.

Decision: Approved. No instrument of equivalent scientific value to the foreign instrument, for such purposes as these instruments are intended to be used, was being manufactured in the United States at the time the instruments were ordered.

Reasons: Each foreign instrument is an electron microscope and is intended for research or scientific educational uses requiring an electron microscope. We know of no electron microscope, or any other instrument suited to these purposes, which was being manufactured in the United States at the time of order of each instrument.

Dated: January 8, 2008.
Faye Robinson,
Director, Statutory Import Programs Staff, Import Administration.

[FR Doc. E8-332 Filed 1-10-08; 8:45 am]

BILLING CODE 3510-DS-P